DEPARTMENT OF COMMERCE

National Oceanic and Atmospheric Administration

Proposed Information Collection; Comment Request; Alaska Region Crab Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 13, 2017.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Sally Bibb, (907) 586-7389 or sally.bibb@noaa.gov.

SUPPLEMENTARY INFORMATION:

I. Abstract

This request is for extension of a currently approved information collection.

The king and Tanner crab fisheries in the exclusive economic zone of the Bering Sea and Aleutian Islands, Alaska, are managed under the Fishery Management Plan for Bering Sea and Aleutian Islands King and Tanner Crabs (FMP). The North Pacific Fishery Management Council prepared the FMP under the Magnuson-Stevens Fishery Conservation and Management Act as amended in 2006. The National Marine Fisheries Service (NMFS) manages the crab fisheries in the waters off the coast of Alaska under the FMP. Regulations implementing the FMP and all amendments to the Crab Rationalization Program (CR Program) appear at 50 CFR part 680. Program details are found at: http://www.alaskafisheries.noaa.gov/regs/680/default.htm.

The CR Program balances the interests of several groups who depend on the crab fisheries. The CR Program addresses conservation and management issues associated with the previous derby fishery, reduces bycatch and associated discard mortality, and increases the safety of crab fishermen by ending the race for fish. Share allocations to harvesters and processors, together with incentives to participate in fishery cooperatives, increases efficiencies, provides economic stability, and facilitates compensated reduction of excess capacities in the harvesting and processing sectors. Community interests are protected by Western Alaska Community Development Quota allocations and regional landing and processing requirements, as well as by several community protection measures.

NMFS established the CR Program as a catch share program for nine crab fisheries in the BSAI, and assigned quota share (QS) to persons and processor quota share (PQS) to processors based on their historic participation in one or more of these nine crab fisheries during a specific period. The CR Program components include QS allocation, PQS allocation, individual fishing quota (IFQ) issuance, and individual processing quota (IPQ) issuance, quota transfers, use caps, crab harvesting cooperatives, protections for Gulf of Alaska groundfish fisheries, arbitration system, monitoring, economic data collection, and cost recovery fee collection.

II. Method of Collection

Respondents have a choice of either electronic or paper forms. Methods of submittal include online, email of electronic forms, mail, and facsimile transmission of paper forms.

III. Data

OMB Control Number: 0648-0514.

Form Number: None.

Type of Review: Regular submission (extension of a currently approved collection).

Affected Public: Individuals or households; business or other for-profit organizations.

Estimated Number of Respondents: 1,993.

Estimated Time per Response: Annual application for crab IFQ permit, application for Crab IPQ permit, application to become an eligible crab community organization (ECCO), 150 minutes each; application for an Annual Crab Harvesting Cooperative IFQ Permit, Right of first refusal (ROFR) contracts and waivers, 1 hour each; annual application for Crab Converted CPO QS and CPO IFQ and application for Registered Crab Receiver (RCR) Permit, BSAI Crab Rationalization Program Quota Share Beneficiary Designation Form, 30 minutes; application for Crab IFQ Hired Master Permit and application for Federal crab vessel permit (FCVP) 21 minutes each; application for eligibility to receive crab QS/IFQ or PQS/IPQ by transfer, application for transfer of crab IFQ, application for transfer of crab QS/IFQ to or from an ECCO, Application to transfer crab QS or PQS, application for Annual Exemption from Western Aleutian Islands Golden King Crab West Region Delivery Requirements, Community Impact Report or IPQ Holder Report (North or South Response Report), 2 hours each; ECCO Annual report and appeal of denial to NMFS decisions, 4 hours each; application for transfer of IFQ between crab harvesting cooperatives, electronic, 5 minutes, non-electronic, 2 hours; application to Transfer Crab IPQ, electronic, 1 hour; non-electronic, 2 hours; CDQ notification of community representative, 5 hours; application for exemption from CR Crab North or South Region Delivery Requirements and North or South Region Delivery Exemption Report, 20 hours each.

Estimated Total Annual Burden Hours: 7,226.

Estimated Total Annual Cost to Public: $13,841 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 9, 2017.
Sarah Brabson,
NOAA PRA Clearance Officer.

[FR Doc. 2017-00557 Filed 1-11-17; 8:45 am]

BILLING CODE 3510-22-P